DEPARTMENT OF THE INTERIOR

Bureau of Land Management

[NV-055-5853-EU]

Correction to Notice of Realty Action: Competitive Sale of Public Lands in Clark County, NV; Termination of Recreation and Public Purposes Classification and Segregation; Withdrawal of the Formerly Classified Lands by the Southern Nevada Public Land Management Act

AGENCY: Bureau of Land Management, USDI.

ACTION: Correction notice.

SUMMARY: This notice amends the Notice of Realty Action for Competitive Sale of Public Lands in Clark County, Nevada; Termination of Recreation and Public Purposes Classification and Segregation; Withdrawal of the formerly classified lands by the Southern Nevada Public Land Management Act printed in the Federal Register: Vol. 70, No. 159 Thursday, August 18, 2005. The number of parcels being offered for sale is corrected to read, 87 parcels. This sale includes parcel N-78217 which was omitted from the original notice.

Under the section entitled DATES, the correct acres for the proposed SNPLMA sale in the Las Vegas Valley is 3,197.00 acres.

Under the section entitled SUPPLEMENTARY INFORMATION, the following corrections are made:

The first sentence after the legal descriptions is corrected to read “87 parcels”. In the first and second sentences after the legal descriptions, all references to the North Las Vegas “parcel” should read “parcels”, and the second sentence is to also include (N-78217 and N-79580).

In the second full paragraph after the legal descriptions, regarding BLM reservation/conveyance of the mineral interests, N-78217 is added to the parcels referenced.

Under the section entitled “Terms and Conditions of Sale”, the following corrections are made:

No. 7. should read, “Unless otherwise stated herein, maps delineating the individual proposed sale parcels and current appraisals for each parcel are available for public review at the BLM LVFO.”

No. 8. (a), should read, “Parcels N-78217 and N-79580 will be put up for purchase and sale together at the oral auction. A sealed bid for these parcels will not be accepted. If these parcels are not sold at the oral auction, they will not be offered later on an online Internet auction.”

No. 11., the last sentence should read, “For parcels N-78217 and N-79580, arrangements may be made for Electronic Fund Transfer (EFT) of the required, combined 20 percent deposit for both parcels by notifying BLM no later than October 31, 2005 of your intent to use EFT.”

No. 14., second sentence should read, “For parcels N-78217 and N-79580 each prospective bidder will be required to present a certified check, postal money order, bank draft, or cashier's check made payable in U.S. dollars to the Bureau of Land Management for an amount of money which shall be no less than 20 percent of the combined federally approved FMV for both designated parcels, in order to be eligible to bid on them.”

Under the section entitled “Additional Information”, the following corrections are made:

Paragraph one, the second sentence should read, “Unsold parcels, with the exception of parcels N-78217 and N-79580, may be offered for sale in a future online Internet auction.”

Paragraph three should read, “Parcel N-78217. Potential bidders for parcels N-78217 and N-79580 should be aware of the content of a document entitled, “A Conservation Agreement for the Management of Special Resources on the Bureau of Land Management Parcels Nominated for Disposal by the City of North Las Vegas” entered into by BLM, the U.S. Fish and Wildlife Service, the Nevada Division of Forestry and the City of North Las Vegas (the “Conservation Agreement”). Under the Conservation Agreement, BLM retains ownership of approximately 300 acres partially surrounded by parcel N-78217 for protection and preservation of certain special plant and paleontological resources. BLM makes no warranty or representation that this Conservation Agreement is the full extent of federal or state requirements that may impact parcel N-78217.

Dated: August 29, 2005.
Juan Palma,
Field Manager.

[FR Doc. 05-18198 Filed 9-12-05; 8:45 am]

BILLING CODE 4310-HC-P